DEPARTMENT OF TRANSPORTATION

Federal Motor Carrier Safety Administration

[Docket No. FMCSA-2010-0418]

Agency Information Collection Activities; Extension of an Approved Information Collection Request: Household Goods Consumer Information Program Assessment Study

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. This ICR will be used to collect information on recent interstate household goods shippers' (consumers) awareness of the Household Goods (HHG) Consumer Information Program messages and activities.

DATES: Please send your comments by May 3, 2011. OMB must receive your comments by this date in order to act quickly on the ICR.

ADDRESSES: You may submit comments bearing the Federal Docket Management System (FDMS) Docket Number FMCSA-2010- 0418 using any of the following methods:

• Federal eRulemaking Portal: Go to http://www.regulations.gov. Follow the on-line instructions for submitting comments.

• Mail: Docket Management Facility, U.S. Department of Transportation, 1200 New Jersey Avenue, SE., West Building Ground Floor, Room W12-140, Washington, DC 20590-0001.

• Hand Delivery: West Building Ground Floor, Room W12-140, 1200 New Jersey Avenue, SE., Washington DC, 20590-0001 between 9 a.m. and 5 p.m., e.t., Monday through Friday, except Federal Holidays.

• Fax: 1-202-493-2251.

Each submission must include the Agency name and the docket number for this Notice. Note that DOT posts all comments received without change to http://www.regulations.gov, including any personal information included in a comment. Please see the Privacy Act heading below.

Docket: For access to the docket to read background documents or comments, go to http://www.regulations.gov at any time or to Room W12-140 on the ground level of the West Building, 1200 New Jersey Avenue, SE., Washington, DC, 20590-0001 between 9 a.m. and 5 p.m., Monday through Friday, except Federal holidays. The FDMS is available 24 hours each day, 365 days each year. If you want acknowledgement that we received your comments, please include a self-addressed, stamped envelope or post card or print the acknowledgement page that appears after submitting them on-line.

Privacy Act: Anyone is able to search the electronic form of all comments received into any of our dockets by the name of the individual submitting the comment (or of the person signing the comment, if submitted on behalf of an association, business, labor union, etc.). You may review DOT's complete Privacy Act Statement for the Federal Docket Management System published in the Federal Register on January 17, 2008 (73 FR 3316), or you may visit http://edocket.access.gpo..gov/2008/pdf/E8-785.pdf.

FOR FURTHER INFORMATION CONTACT: Mr. Brian Ronk, Program Manager, FMCSA, Office of Safety Programs, Outreach and Education Division. Telephone: (202) 366-1072; or e-mail brian.ronk@dot.gov.

SUPPLEMENTARY INFORMATION: Background: The purpose of this study is to quantify and assess consumer awareness of the HHG Consumer Information Program. The study will determine the interstate moving public's recognition or knowledge of the Program's activities or messages, such as the “Protect Your Move” campaign. The data will be collected through a telephone survey. Results of the study will not be published, but used for internal research purposes by FMCSA in developing future HHG campaign materials, identifying target audiences, and determining distribution strategies to provide better consumer information to the public.

Title: Household Goods Consumer Information Program Assessment Study.

OMB Control Number: 2126-0045.

Type of Request: Extension of a currently-approved ICR.

Respondents: Public/consumers who have moved household goods from one State to a different State in the U.S. (Interstate Household Goods Shippers).

Estimated Number of Respondents: 1,500.

Estimated Time per Response: The estimated average burden per response is 15 minutes.

Expiration Date: July 31, 2011.

Frequency of Response: This information collection will occur twice within the three year effective period of the OMB clearance; once in the initial year of approval and again two years following the initial data collection.

Estimated Average Total Annual Burden: 250 hours [1,500 respondents × 15 minutes/60 minutes per response × 2 telephone interviews/3 year ICR approval timeframe = 250].

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued on: February 24, 2011.
Kelly Leone,
Associate Administrator for Research and Information Technology.

[FR Doc. 2011-4924 Filed 3-3-11; 8:45 am]

BILLING CODE 4910-EX-P